ENVIRONMENTAL PROTECTION AGENCY

[FRL-8195-3]

“Great Lakes Legacy Act—Request for Projects”

AGENCY: Environmental Protection Agency.

ACTION: Notice; funding availability.

SUMMARY: The U.S. Environmental Protection Agency (USEPA) Great Lakes National Program Office (GLNPO) is requesting proposals for projects, for up to $29,600,000, addressing contaminated sediment problems in Great Lakes Areas of Concern located wholly or partially in the United States (U.S. AOCs) as outlined in the Great Lakes Legacy Act of 2002 (the Legacy Act).

DATES: The deadline for all Project proposals is 5 p.m. Central Time, September 15, 2006.

ADDRESSES: U.S. EPA Great Lakes National Program Office (G-17J), 77 W. Jackson Blvd. Chicago, IL 60604.

FOR FURTHER INFORMATION CONTACT: Marc Tuchman, 312-353-1369/ tuchman.marc@epa.gov.

SUPPLEMENTARY INFORMATION: The Request for Projects (RFP) is available on the Internet at http://www.epa.gov/glla. The purpose of this request is to solicit project proposals that would help to implement the Great Lakes Legacy Act. In order to receive funding under the Legacy Act, projects must be located in one of the 31 U.S. Great Lakes AOCs. Top priority will be given to projects that (1) Constitute remedial action for contaminated sediment; (2) have been identified in a Remedial Action Plan and are ready to be implemented; (3) use an innovative approach, technology, or technique that may provide greater environmental benefits, or equivalent environmental benefits at a reduced cost; or (4) included remediation to be commenced not later than one year after the date of receipt of funds for the project. Remediation projects would include, but are not limited to, remedial options such as: dredging, capping, monitored natural recovery, treatment technologies, or a combination of remedial alternatives for contaminated sediment.

The next priority level would be given to projects that seek to monitor or evaluate contaminated sediment or prevent further or renewed contamination of sediment. These projects could include: site characterizations, site assessments, source identification/source control, monitoring, risk assessments, remedial alternatives evaluations and short-term/long-term effects analyses.

The Legacy Act program is not a grant program, and it is not an enforcement or regulatory program. The process for the selection of Legacy Act projects is not a grants competition, but it is based on the development of a negotiated Project Agreement (PA) between USEPA and the non-federal sponsor. USEPA will consider projects based on the extent to which they meet the requirements of the Legacy Act and the RFP.

The non-federal share of the cost of a project shall be at least 35% of the total project costs in those cases where no responsible parties are clearly identified; when the non-federal sponsor is a responsible party, USEPA will require a substantially higher contribution (minimum of 40-50%). The non-federal sponsor is also responsible for 100% of cost of operation and maintenance of the project. The non-federal share may include the value of in-kind services contributed by the non-federal sponsor, and may include funds or in-kind services provided pursuant to an administrative order on consent or a judicial consent decree. The non-federal share of the cost of a project may not include any funds paid pursuant to, or the value of any in-kind service performed under, a unilateral administrative order or court order.

GLNPO will review Legacy Act project proposals as they are received. GLNPO intends to enter into PA discussions with project applicants that meet the required components outlined in the RFP, and receive a high score (per the Legacy Act Rule), subject to the availability of funds. Projects that result in a PA will be funded with FY06 funds to the extent they are available. Other projects that result in a PA will be dependent upon funding, if any, received for the Legacy Act in FY07.

Refer to “Final Rule: Implementation of the Great Lakes Legacy Act of 2002” at http://www.epa.gov/glla/rule/ for more detailed information on EPA's process for identification, evaluation, selection, and implementation of projects for funding under the Legacy Act.

Funding (through project agreements) is available pursuant to section 118(c) of the Federal Water Pollution Control Act (33 U.S.C. 1268(c)). States, tribes, industry, non-governmental organizations, and other stakeholders are eligible to apply.

Dated: June 23, 2006.
Gary V. Gulezian,
Director, Great Lakes National Program Office.

[FR Doc. E6-10868 Filed 7-10-06; 8:45 am]

BILLING CODE 6560-50-P